DEPARTMENT OF ENERGY

Federal Energy Regulatory Commission

[Docket No. RP02-92-000]

K N Wattenberg Transmission Limited Liability Company; Notice of Tariff Filing

December 6, 2001.

Take notice that on November 30, 2001, K N Wattenberg Transmission Limited Liability Company (KN Wattenberg) tendered for filing as part of its FERC Gas Tariff First Revised Volume No. 1, the following tariff sheet, to become effective December 1, 2001:

Second Revised Sheet No. 0

Pursuant to the Commission's Order issued November 23, 2001, in Docket No. CP01-443-000, KN Wattenberg submits the proposed tariff sheet reflecting cancellation of its FERC Gas Tariff. In the November 23 Order, the Commission found that KN Wattenberg provides primarily gathering service and is thus exempt from FERC's regulatory jurisdiction under section 1(b) of the Natural Gas Act. The Commission granted KN Wattenberg's requested abandonment of facilities and services and rescinded KN Wattenberg's existing certificates. Accordingly, KN Wattenberg abendoned such facilities and services effective 12:01 a.m. December 1, 2001. KN Wattenberg therefore requested waiver of 18 CFR 154.602 to permit the Notice of Termination to become effective on 12:01 a.m. December 1, 2001, as proposed.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30724 Filed 12-11-01; 8:45 am]

BILLING CODE 6717-01-P